DEPARTMENT OF ENERGY

Federal Energy Regulatory Commission

[Project No. 2474-004 New York]

Erie Boulevard Hydropower L.P.; Notice of Availability of Final Environmental Assessment

December 6, 2001.

In accordance with the National Environmental Policy Act of 1969 and the Federal Energy Regulatory Commission's (Commission's) regulations, 18 CFR Part 380 (Order No. 486, 52 F.R. 47897), the Office of Energy Projects, Division of Environmental and Engineering Review, reviewed the application for relicensing of the Oswego River Hydroelectric Project, located on the Oswego River in Oswego County, New York.

On November 24, 1999, the Commission staff issued a draft Environmental Assessment (EA) for the project and requested that any comments be filed within 45 days (later extended to January 31, 2000). Comments were filed by five entities and are addressed in the final EA for the project.

In the final EA, the Commission's staff analyze the potential environmental impacts of the existing project and conclude that approval of the project, with appropriate environmental protection measures, would not constitute a major federal action significantly affecting the quality of the human environment.

Copies of the final EA are available for review in the Public Reference Branch, Room 2-A, of the Commission's offices at 888 First Street, NE, Washington, DC 20426, The final EA may also be viewed on the web at http://www.ferc.gov using the “RIMS” link, select “Docket#” and follow the instructions (call 202-208-2222 for assistance).

Linwood A. Watson, Jr.,
Acting Secretary.

[FR Doc. 01-30699 Filed 12-11-01; 8:45 am]

BILLING CODE 6717-01-P